FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 19, 2004.

A. Federal Reserve Bank of Cleveland (Nadine W. Wallman, Assistant Vice President) 1455 East Sixth Street, Cleveland, Ohio 44101-2566:

1. Clay M. and Bernice H. Corman, Nicholasville, Kentucky; to retain voting shares of Citizens National Bancshares, Inc., Nicholasville, Kentucky, and thereby indirectly retain voting shares of Citizens National Bank of Jessamine County, Nicholasville, Kentucky.

B. Federal Reserve Bank of Atlanta (Sue Costello, Vice President) 1000 Peachtree Street, NE., Atlanta, Georgia 30303:

1. Old Post Road, L.P., Madison, Georgia; Floyd C. Newton, Jr., Madison, Georgia, and Floyd C. Newton, III, Atlanta, Georgia; to acquire voting shares of Madison Bank Corporation, and thereby indirectly acquire voting shares of Bank of Madison, Madison, Georgia.

C. Federal Reserve Bank of Minneapolis (Jacqueline G. Nicholas, Community Affairs Officer) 90 Hennepin Avenue, Minneapolis, Minnesota 55480-0291:

1. Victor Philip Reim, St. Paul, Minnesota; Erick John Reim, Vadnais Heights, Minnesota; Ann Reim Woessner, Roseville, Minnesota; and Amy Lynn Amundson, Alexandria, Minnesota, to acquire control of Alliance Financial Services, Inc., St. Paul, Minnesota, and thereby indirectly acquire control of American Bank, Eau Claire, Wisconsin; American Bank Lake City, Lake City, Minnesota; and Alliance Bank, New Ulm, Minnesota.

Board of Governors of the Federal Reserve System, March 30, 2004.
Robert deV. Frierson,
Deputy Secretary of the Board.

[FR Doc. E4-749 Filed 4-2-04; 8:45 am]

BILLING CODE 6210-01-S